NATIONAL SCIENCE FOUNDATION

Special Emphasis Panel in Undergraduate Education; Notice of Meeting

In accordance with the Federal Advisory Committee Act (Pub. L. 92-463, as amended), the National Science Foundation announces the following meeting.

Name: Special Emphasis Panel in Undergraduate Education (1214) Course, Curriculum, and Laboratory Improvement Program (CCLI).

Date/Time: July 17-20 and July 24-27, 2000; 8 a.m. to 5 p.m.

Place: Rooms 381 (Headquarters Room) Doubletree Hotel, 300 Army-Navy Drive, Arlington, VA 22202..

Type of Meeting: Closed.

Contact Person: Drs. Susan H. Hixson, Herbert H. Levitan and Myles G. Boylan, National Science Foundation, 4201 Wilson Boulevard, Arlington, VA 22230. Telephone: (703) 306-1667/9..

Purpose of Meeting: To provide advice and recommendations concerning proposals submitted to NSF for financial support.

Agenda: To review and evaluate CCLI proposals as part of the selection process for awards.

Reason for Closing: The proposals being reviewed include information of a proprietary or confidential nature, including technical information; financial data, such as salaries; and personal information concerning individual associated with the proposals. These matters are exempt under 5 U.S. C. 552b(c), (4) and (6) of the Government in the Sunshine Act.

Dated: June 19, 2000.
Karen J. York,
Committee Management Officer.

[FR Doc. 00-15829 Filed 6-21-00; 8:45 am]

BILLING CODE 1555-01-M